DEPARTMENT OF THE INTERIOR

Bureau of Land Management

[NMNM-030-1430-ET; NMNM 0554274]

Public Land Order No. 7659; Revocation of Public Land Order No. 3685; New Mexico

AGENCY: Bureau of Land Management, Interior.

ACTION: Public Land Order.

SUMMARY: This order revokes Public Land Order No. 3685 in its entirety as it affects 2,789 acres of public land withdrawn and reserved for use by the National Aeronautics and Space Administration for protection of facilities. The land is no longer needed for the purpose for which it was withdrawn. The land will remain closed to surface entry and mining until a planning review and analysis is completed to determine the best use of the land.

DATES: Effective Date: March 29, 2006.

FOR FURTHER INFORMATION CONTACT: Angel Mayes, Las Cruces Field Office, 1800 Marquess, Las Cruces, New Mexico 88005, (505) 525-4376.

Order

By virtue of the authority vested in the Secretary of the Interior by section 204 of the Federal Land Policy and Management Act of 1976, 43 U.S.C. 1714 (2000), it is ordered as follows:

Public Land Order 3685 (30 FR 7622, June 17, 1965), which withdrew public land for use by the National Aeronautics and Space Administration, is hereby revoked in its entirety as it affects the following described land:

New Mexico Principal Meridian

T. 23 S., R. 2 E., sec. 13; sec. 14, N½ and SE¼; sec. 15, lots 15 to 169, inclusive; secs. 24 and 25.

The area described contains approximately 2,789 acres in Dona Ana County.

Dated: March 10, 2006.
Mark Limbaugh,
Assistant Secretary of the Interior.

[FR Doc. E6-4534 Filed 3-28-06; 8:45 am]

BILLING CODE 4310-FB-P